DEPARTMENT OF LABOR

Employment and Training Administration

[TA-W-58,808]

Lexmark International, Inc, Supply Chain Workforce, Printing Solutions & Services Division, Lexington, KY; Notice of Affirmative Determination Regarding Application for Reconsideration

By application of March 25, 2006, a petitioner requested administrative reconsideration of the Department of Labor's Notice of Negative Determination Regarding Eligibility to Apply for Worker Adjustment Assistance, applicable to workers of the subject firm. The Department's notice of determination was signed on February 24, 2006, and published in the Federal Register on March 22, 2006 (71 FR 14550).

The petitioner stated in the request for reconsideration that the worker group supported the production of components (ink and printer cartridges) of articles produced by the subject firm (printers). The petitioner also inferred that support activities were shifted overseas when production shifted abroad.

The Department has carefully reviewed the request for reconsideration and has determined that the Department will conduct further investigation based on new information provided by the petitioner and the company official.

Conclusion

After careful review of the application, I conclude that the claim is of sufficient weight to justify reconsideration of the Department of Labor's prior decision. The application is, therefore, granted.

Signed at Washington, DC, this 13th day of April 2006.
Elliott S. Kushner,
Certifying Officer, Division of Trade Adjustment Assistance.

[FR Doc. E6-6094 Filed 4-21-06; 8:45 am]

BILLING CODE 4510-30-P